DEPARTMENT OF COMMERCE

International Trade Administration

[A-570-970, C-570-971]

Multilayered Wood Flooring From the People's Republic of China: Continuation of Antidumping Duty Orders

AGENCY: Enforcement and Compliance, International Trade Administration, Department of Commerce.

SUMMARY: As a result of the determinations by the Department of Commerce (Commerce) and the International Trade Commission (ITC) that revocation of the antidumping duty (AD) and countervailing duty (CVD) orders on multilayered wood flooring from the People's Republic of China (China) would likely lead to a continuation or recurrence of dumping and material injury to an industry in the United States, the Commerce is publishing a notice of continuation of the AD and CVD orders.

DATES: Applicable January 3, 2018.

FOR FURTHER INFORMATION CONTACT: Maliha Khan or Thomas Martin (AD order), Office IV; telephone: 202-482-0895 or 202-482-3936, respectively, or Robert James or John Anwesen (CVD order), Office VIII; telephone: 202-482-0649 or 202-482-0131, respectively; AD/CVD Operations, Enforcement and Compliance, International Trade Administration, U.S. Department of Commerce, 1401 Constitution Avenue NW, Washington, DC 20230.

SUPPLEMENTARY INFORMATION:

Background

On December 8, 2011, Commerce published in the Federal Register the AD and CVD orders on multilayered wood flooring from the PRC.¹ On November 1, 2016, Commerce published in the Federal Register the initiation notice for the first sunset review of the Orders on multilayered wood flooring from China, pursuant to section 751(c) of the Tariff Act of 1930, as amended (the Act).² On November 16, 2016, Commerce received a timely notice of intent to participate in these reviews from the Coalition for American Hardwood Parity (CAHP), a domestic interested party, within the 15-day deadline specified in 19 CFR 351.218(d)(1)(i).³ As a result of its reviews, Commerce determined that revocation of the Orders on multilayered wood flooring from China would likely lead to continuation or recurrence of dumping and countervailable subsidies and notified the ITC of the magnitude of the margins and net countervailable subsidy rates likely to prevail should these Orders be revoked.⁴ On December 19, 2017, the ITC published its determination that revocation of the Orders would likely lead to a continuation or recurrence of material injury to an industry in the United States within a reasonably foreseeable time, pursuant to section 751(c) of the Act.⁵

¹ See Multilayered Wood Flooring from the People's Republic of China: Amended Final Determination of Sales at Less Than Fair Value and Antidumping Duty Order, 76 FR 76690 (December 8, 2011) and Multilayered Wood Flooring from the People's Republic of China: Countervailing Duty Order, 76 FR 76692 (December 8, 2011) (collectively, the Orders).

² See Initiation of Five-Year (Sunset) Review, 81 FR 75808 (November 1, 2016).

³ See Letters from CAHP to Commerce, “Petitioners' Notice of Intent to Participate: Five-Year (“Sunset”) Review: Multilayered Wood Flooring from the People's Republic of China” (November 16, 2016) for both AD and CVD reviews.

⁴ See Multilayered Wood Flooring from the People's Republic of China: Final Results of the Expedited First Sunset Review of the Antidumping Duty Order, 82 FR 13092 (March 9, 2017) and Multilayered Wood Flooring from the People's Republic of China: Final Results of Expedited First Sunset Review of the Countervailing Duty Order, 82 FR 12555 (March 6, 2017).

⁵ See Investigation Nos. 731-TA-1179 and 701-TA-476 (Review) Multilayered Wood Flooring from China, 82 FR 242 (December 19, 2017), and USITC Publication 4746 (December 2017), entitled Multilayered Wood Flooring from China: Investigation Nos. 701-TA-476 and 731-TA-1179 (Review).

Scope of the Orders

Multilayered wood flooring is composed of an assembly of two or more layers or plies of wood veneer(s) ⁶ in combination with a core.⁷ The several layers, along with the core, are glued or otherwise bonded together to form a final assembled product. Multilayered wood flooring is often referred to by other terms, e.g., “engineered wood flooring” or “plywood flooring.” Regardless of the particular terminology, all products that meet the description set forth herein are intended for inclusion within the definition of subject merchandise.

⁶ A “veneer” is a thin slice of wood, rotary cut, sliced or sawed from a log, bolt or flitch. Veneer is referred to as a ply when assembled.

⁷ Department of Commerce Interpretive Note: Commerce interprets this language to refer to wood flooring products with a minimum of three layers.

All multilayered wood flooring is included within the definition of subject merchandise, without regard to: Dimension (overall thickness, thickness of face ply, thickness of back ply, thickness of core, and thickness of inner plies; width; and length); wood species used for the face, back, and inner veneers; core composition; and face grade. Multilayered wood flooring included within the definition of subject merchandise may be unfinished (i.e., without a finally finished surface to protect the face veneer from wear and tear) or “prefinished” (i.e., a coating applied to the face veneer, including, but not exclusively, oil or oil-modified or water-based polyurethanes, ultraviolet light cured polyurethanes, wax, epoxy-ester finishes, moisture-cured urethanes and acid-curing formaldehyde finishes). The veneers may be also soaked in an acrylic-impregnated finish. All multilayered wood flooring is included within the definition of subject merchandise regardless of whether the face (or back) of the product is smooth, wire brushed, distressed by any method or multiple methods, or hand-scraped. In addition, all multilayered wood flooring is included within the definition of subject merchandise regardless of whether or not it is manufactured with any interlocking or connecting mechanism (for example, tongue-and-groove construction or locking joints). All multilayered wood flooring is included within the definition of the subject merchandise regardless of whether the product meets a particular industry or similar standard.

The core of multilayered wood flooring may be composed of a range of materials, including but not limited to hardwood or softwood veneer, particleboard, medium-density fiberboard, high-density fiberboard (HDF), stone and/or plastic composite, or strips of lumber placed edge-to-edge.

Multilayered wood flooring products generally, but not exclusively, may be in the form of a strip, plank, or other geometrical patterns (e.g., circular, hexagonal). All multilayered wood flooring products are included within this definition regardless of the actual or nominal dimensions or form of the product. Specifically excluded from the scope are cork flooring and bamboo flooring, regardless of whether any of the sub-surface layers of either flooring are made from wood. Also excluded is laminate flooring. Laminate flooring consists of a top wear layer sheet not made of wood, a decorative paper layer, a core-layer of HDF, and a stabilizing bottom layer.

Imports of the subject merchandise are provided for under the following subheadings of the Harmonized Tariff Schedule of the United States (HTSUS): 4412.31.0520; 4412.31.0540; 4412.31.0560; 4412.31.2510; 4412.31.2520; 4412.31.4040; 4412.31.4050; 4412.31.4060; 4412.31.4070; 4412.31.4075; 4412.31.4080; 4412.31.5125; 4412.31.5135; 4412.31.5155; 4412.31.5165; 4412.31.6000; 4412.31.9100; 4412.32.0520; 4412.32.0540; 4412.32.0560; 4412.32.0565; 4412.32.0570; 4412.32.2510; 4412.32.2520; 4412.32.2525; 4412.32.2530; 4412.32.3125; 4412.32.3135; 4412.32.3155; 4412.32.3165; 4412.32.3175; 4412.32.3185; 4412.32.5600; 4412.39.1000; 4412.39.3000; 4412.39.4011; 4412.39.4012; 4412.39.4019; 4412.39.4031; 4412.39.4032; 4412.39.4039; 4412.39.4051; 4412.39.4052; 4412.39.4059; 4412.39.4061; 4412.39.4062; 4412.39.4069; 4412.39.5010; 4412.39.5030; 4412.39.5050; 4412.94.1030; 4412.94.1050; 4412.94.3105; 4412.94.3111; 4412.94.3121; 4412.94.3131; 4412.94.3141; 4412.94.3160; 4412.94.3171; 4412.94.4100; 4412.94.5100; 4412.94.6000; 4412.94.7000; 4412.94.8000; 4412.94.9000; 4412.94.9500; 4412.99.0600; 4412.99.1020; 4412.99.1030; 4412.99.1040; 4412.99.3110; 4412.99.3120; 4412.99.3130; 4412.99.3140; 4412.99.3150; 4412.99.3160; 4412.99.3170; 4412.99.4100; 4412.99.5100; 4412.99.5105; 4412.99.5115; 4412.99.5710; 4412.99.6000; 4412.99.7000; 4412.99.8000; 4412.99.9000; 4412.99.9500; 4418.71.2000; 4418.71.9000; 4418.72.2000; 4418.72.9500; and 9801.00.2500.

While HTSUS subheadings are provided for convenience and customs purposes, the written description of the subject merchandise is dispositive.

Continuation of the Orders

As a result of the determinations by Commerce and the ITC that revocation of the Orders would likely lead to a continuation or recurrence of dumping and countervailable subsidies and material injury to an industry in the United States, pursuant to section 751(d)(2) of the Act and 19 CFR 351.218(a), Commerce hereby orders the continuation of these Orders on multilayered wood flooring from China. U.S. Customs and Border Protection will continue to collect AD and CVD cash deposits at the rates in effect at the time of entry for all imports of subject merchandise.

The effective date of the continuation of these Orders will be the date of publication in the Federal Register of this notice of continuation. Pursuant to section 751(c)(2) of the Act, Commerce intends to initiate the next five-year review of these Orders not later than 30 days prior to the fifth anniversary of the effective date of continuation.

These five-year sunset reviews and this notice are in accordance with section 751(c) of the Act and published pursuant to section 777(i)(1) of the Act and 19 CFR 351.218(f)(4).

Dated: December 21, 2017.
Gary Taverman,
Deputy Assistant Secretary for Antidumping and Countervailing Duty Operations, performing the non-exclusive functions and duties of the Assistant Secretary for Enforcement and Compliance.

[FR Doc. 2017-28202 Filed 1-2-18; 8:45 am]

BILLING CODE 3510-DS-P